DEPARTMENT OF ENERGY

Federal Energy Regulatory Commission

[Project No. 2742-036]

Four Dam Pool Power Agency; Cooper Valley Electric Association, Inc.; Notice of Application for Transfer of License, and Soliciting Comments, Motions To Intervene, and Protests

November 14, 2008.

On October 6, 2008, Four Dam Pool Power Agency (Transferor) and Cooper Valley Electric Association, Inc. (Transferee) filed an application for transfer of license of the Solomon Gulch Project, located on the Solomon Gulch Creek in Valdez-Cordova Area, Alaska.

Applicants seek Commission approval to transfer the license for the Four Dam Pool Power Agency to Cooper Valley Electric Association, Inc.

Applicant Contact: Mr. William H. Prentice, Ater Wynne LLP, 222 SW Columbia Street, Suite 1800, Portland, OR 97201-6618, phone (503) 226-1191 and Mr. Robert A. Wilkinson, CEO, Cooper Valley Electric Association, Inc., P.O. Box 45, Glennallen, AK 99588-0045.

FERC Contact: Robert Bell, (202) 502-6062.

Deadline for Filing Comments, Motions To Intervene: 30 days from the issuance of this notice. Comments, motions to intervene, and notices of intent may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings, please go to the Commission's Web site located at http://www.ferc.gov/filing-comments.asp. More information about this project can be viewed or printed on the “eLibrary” link of the Commission's Web site at http://www.ferc.gov/docs-filing/elibrary.asp. Enter the docket number (P-2742-036) in the docket number field to access the document. For assistance, call toll-free 1-866-208-3372.

Kimberly D. Bose,
Secretary.

[FR Doc. E8-27568 Filed 11-19-08; 8:45 am]

BILLING CODE 6717-01-P